DEPARTMENT OF COMMERCE

National Oceanic and Atmospheric Administration

[I.D. /807B]

Endangered Species; File No. 1607

AGENCY: National Marine Fisheries Service (NMFS), National Oceanic and Atmospheric Administration (NOAA), Commerce.

ACTION: Notice; receipt of application.

SUMMARY: Notice is hereby given that Grants Pass Irrigation District (GPID), 200 Fruitvale Drive, Grants Pass, Oregon, has applied in due form for an incidental take permit for Southern Oregon/Northern California coho salmon for purposes of the continued operation and maintenance of Savage Rapids Dam. Unlisted covered species include Klamath Mountains Province (KMP) steelhead (Oncorhynchus mykiss) and Southern Oregon/Northern California Coastal (SONCC) Chinook salmon (O. tshawytscha).

DATES: Written, telefaxed, or e-mail comments must be received on or before May 7, 2007.

ADDRESSES: The application and related documents are available for review upon written request or by appointment in the following office(s):

Northwest Region, Oregon State Habitat Office, Habitat Conservation Division, NMFS, 1201 NE Lloyd Boulevard, Suite 1100, Portland, OR 97232-1274; phone (503) 231-2202; fax (503) 231-6893; and Roseburg Field Office, NMFS, 2900 NW Stewart Parkway, Roseburg, OR 97470, phone (541) 957-3385; fax (541) 957-3386

Written comments or requests for a public hearing on this application should be mailed to the above address. Those individuals requesting a hearing should set forth the specific reasons why a hearing on this particular request would be appropriate.

Comments may also be submitted by facsimile at (503) 231-6893, provided the facsimile is confirmed by hard copy submitted by mail and postmarked no later than the closing date of the comment period.

Comments may also be submitted by e-mail. The mailbox address for providing e-mail comments is Kenneth.Phippen@noaa.gov. Include in the subject line of the e-mail comment the following document identifier: File No. 1607.

FOR FURTHER INFORMATION CONTACT: Ken Phippen, (541)957-3385.

SUPPLEMENTARY INFORMATION: The subject permit is requested under the authority of the Endangered Species Act of 1973, as amended (ESA; 16 U.S.C. 1531 et seq.) and the regulations governing the taking, importing, and exporting of endangered and threatened species (50 CFR parts 222-226).

The Permit application is related to the continued operation and maintenance of Savage Rapids Dam in Josephine and Jackson Counties, in the State of Oregon. The dam is owned and operated by the GPID for the sole purpose of providing irrigation water to its customers. The GPID Habitat Conservation Plan (HCP) utilizes a combination of conservation measures that are expected to minimize and mitigate, to the maximum extent practicable, the impacts of take of ESA-listed coho salmon, and unlisted Chinook salmon and steelhead during irrigation operations in the period 2007-2009. A 1-year extension is considered in the assessments of this HCP. The HCP also requires GPID to take certain steps during the time the permit is effective to work to secure authorization and funding for dam removal and to install off-site electrical pumping stations along the Rogue River near Grants Pass, Oregon, by November 1, 2009, to provide for the long-term conservation of listed and unlisted covered species. The Bureau of Reclamation has awarded a contract for constructing the irrigation pumps and dismantling the dam. Pump construction was initiated in October 2006 and is expected to be completed along with dam dismantling prior to this ITP's expiration. To ensure that the mitigation and minimization strategies are effective, the HCP incorporates a variety of monitoring components, and if needed, adaptive management changes in the conservation measures set forth. It is expected that incidental take of the listed and unlisted species will occur from the normal operations and maintenance of the dam.

Adult and juvenile SONC coho salmon from the Upper Rogue River population will be exposed to the SRD facilities that pose a physical threat to these individuals. Some adults from the Middle Rogue and Applegate rivers population may also venture above SRD or within the area downstream that is affected by the flow modifications of the dam. Adults must navigate the river and the altered flows from SRD in order to locate the fish ladders. The adults' upstream migration is likely to be delayed while flow conditions reach levels that allow the fish to navigate the fish ladders. Total mortality of juveniles caused by SRD is estimated to be 10 to 15 percent by Oregon Department of Fish and Wildlife. This may be decreased by ongoing conservation measures, such as forebay lighting. However, this may be off-set by low-water years and a greater percentage of fish exposed to the turbines. Therefore, based on estimates of juvenile coho salmon population sizes and the effects described above, the annual injury and mortality of salmonid juveniles each year during the interim period is estimated to be between 1,400 and 2,500 fish. Total mortality of adult coho salmon is estimated to be between 200 and 1,200 fish annually. On an annual basis for the four years of potential operation (three years approved and one potential extension), fish salvage operations in the fall and spring will result in additional levels of harm for juvenile salmon and rarely for adults. In the fall there is potential for one adult coho salmon to be encountered during the shutdown operations of SRD. Both spring and fall situations will result in approximately 130 juvenile SONC coho salmon captured and released during the salvage operations. It is expected that up to 10 of these may die.

Dated: March 30, 2007.
Angela Somma,
Chief, Endangered Species Division, Office of Protected Resources, National Marine Fisheries Service.

[FR Doc. E7-6412 Filed 4-5-07; 8:45 am]

BILLING CODE 3510-22-S